DEPARTMENT OF JUSTICE

Notice of Lodging of Consent Decree Under the Clean Air Act, the Comprehensive Environmental Response, Compensation and Liabilty Act (“Cercla”) and the Emergency Planning and Community Right-To-Know Act (“Epcra”)

On August 27, 2014, the Department of Justice lodged a proposed consent decree (“proposed Decree”) with the United States District Court for the Southern District of West Virginia in the lawsuit entitled United States v. E.I. du Pont de Nemours and Company, Civil Action No. 2:14-25143.

The United States filed this civil action for assessment of civil penalties and injunctive relief brought under Section 113(b) of the Clean Air Act, 42 U.S.C. 7413(b), Section 325 of EPCRA, 42 U.S.C. 11045; and Section 109(c) of CERCLA, 42 U.S.C. 9609(c) against E.I. du Pont de Nemours and Company (“Defendant”) in which the United States alleges violations of Sections 112(r)(1) and 112(r)(7) of the Clean Air Act, 42 U.S.C. 7412(r)(1) & (r)(7), violations of the emergency release notification requirements of Section 103 of CERCLA, 42 U.S.C. 9603, Section 304 of EPCRA, 42 U.S.C. 11004, and violations of the emergency planning and community right-to-know requirements of Section 312 of EPCRA, 42 U.S.C. 11022 at Defendant's chemical production facility in Belle, West Virginia. Under the proposed Decree, Defendant will pay a $1,275,000 civil penalty and will perform injunctive relief including enhanced training, formal reviews of its safety procedures, and annual reporting.

The publication of this notice opens a period for public comment on the proposed Decree. Comments should be addressed to the Assistant Attorney General, Environment and Natural Resources Division, and should refer to United States v. E.I. du Pont de Nemours and Company, D.J. Ref. No. 90-5-2-1-10707. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $8.75 (25 cents per page reproduction cost) payable to the United States Treasury.

Robert Brook,
Assistant Section Chief, Environmental Enforcement Section, Environment and Natural Resources Division.

[FR Doc. 2014-20866 Filed 9-2-14; 8:45 am]

BILLING CODE 4410-15-P